NUCLEAR REGULATORY COMMISSION

[Project No. 0769; NRC-2017-0043]

NuScale Power, LLC

AGENCY: Nuclear Regulatory Commission.

ACTION: Design certification application; receipt.

SUMMARY: The U.S. Nuclear Regulatory Commission (NRC) received a design certification application (DCA) from NuScale Power, LLC (NuScale), on January 6, 2017, for a Small Modular Reactor (SMR). The DCA package included a transmittal letter, dated December 31, 2016, which indicated the application would be supplemented with one topical report and four technical reports by January 10, 2017. By January 12, 2017, NuScale provided updated files that allowed for the successful completion of the NRC's electronic processing of the DCA package.

DATES: The application was received on January 13, 2017.

ADDRESSES: Please refer to Docket ID NRC-2017-0043 when contacting the NRC about the availability of information regarding this document. You may obtain publicly-available information related to this document using any of the following methods:

• Federal Rulemaking Web site: Go to http://www.regulations.gov and search for Docket ID NRC-2017-0043. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The entire NuScale application is available in ADAMS under Accession No. ML17013A229.

• NRC's PDR: You may examine and purchase copies of public documents at the NRC's PDR, Room O1-F21, One White Flint North, 11555 Rockville Pike, Rockville, Maryland 20852.

FOR FURTHER INFORMATION CONTACT: Bruce Bavol, Office of New Reactors, U.S. Nuclear Regulatory Commission, Washington, DC 20555-0001; telephone: 301-415-6715, email: Bruce.Bavol@nrc.gov.

SUPPLEMENTARY INFORMATION: By letter dated December 31, 2016, NuScale filed an application for a standard design certification of the NuScale SMR with the NRC, pursuant to Section 103 of the Atomic Energy Act of 1954, as amended, and part 52 of title 10 of the Code of Federal Regulations (10 CFR), “Licenses, Certifications, and Approvals for Nuclear Power Plants.”

The NuScale SMR is a pressurized-water reactor (PWR). The design is based on the Multi-Application Small Light Water Reactor (MASLWR) developed at Oregon State University in the early 2000s. The NuScale SMR is a natural circulation light-water reactor with the reactor core and helical coil steam generator located in a common reactor vessel in a cylindrical steel containment. The NuScale power module is immersed in water in a safety related pool. The reactor pool is located below grade and is designed to hold up to twelve (12) power modules. Each NuScale SMR has a rated thermal output of 160 megawatts thermal (MWt) and electrical output of 50 megawatts electric (MWe). Each plant can hold up to 12 modules yielding a total capacity of 600 MWe.

The acceptability of the tendered application for docketing and other matters relating to the requested rulemaking pursuant to 10 CFR 52.51 for design certification, including provisions for participation of the public and other parties, will be the subject of subsequent Federal Register notices.

Dated at Rockville, Maryland, this 15th day of February, 2017.
For the Nuclear Regulatory Commission.
Frank Akstulewicz,
Director, Division of New Reactor Licensing, Office of New Reactors.

[FR Doc. 2017-03438 Filed 2-21-17; 8:45 am]

BILLING CODE 7590-01-P